DEPARTMENT OF HOUSING AND URBAN DEVELOPMENT

[Docket No. FR-5194-N-04]

Notice of Proposed Information Collection: Comment Request; Indian Housing Block Grant Survey

AGENCY: Office of Public and Indian Housing; Office of Native American Programs, HUD.

ACTION: Notice of proposed information collection.

SUMMARY: The proposed information collection requirement described below will be submitted to the Office of Management and Budget (OMB) for review, as required by the Paperwork Reduction Act. The Department is soliciting public comments on the subject proposal.

DATES: Comments Due Date: April 8, 2008.

ADDRESSES: Interested persons are invited to submit comments regarding this proposal. Comments should refer to the proposal by name/or OMB Control number and should be sent to: Lillian L. Deitzer, Department Reports Management Officer, ODAM, Department of Housing and Urban Development, 451 7th Street, SW., Room 4116, Washington, DC 20410-5000; telephone: 202-708-2374, (this is not a toll-free number) or e-mail Ms. Deitzer at Lillian_I._Deitzer@HUD.gov for a copy of the proposed form and other available information.

FOR FURTHER INFORMATION CONTACT: Mary Schulhof, Office of Policy, Programs and Legislative Initiatives, PIH, Department of Housing and Urban Development, 451 Seventh Street, SW., Washington, DC 20410; telephone: 202-708-0713, (this is not a toll-free number).

SUPPLEMENTARY INFORMATION: The Department will submit the proposed information collection to OMB for review, as required by the Paperwork Reduction Act of 1995 (44 U.S.C. Chapter 35, as amended). This Notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond, including through the use of appropriate automated collection techniques or other forms of information technology, e.g., permitting electronic submission of responses.

This Notice also lists the following information:

Title of Proposal: Evaluation of the Indian Housing Block Grant.

OMB Control Number: 2577—Pending.

Description of the need for the information and proposed use: The Department is conducting, under contract to ACKCO Inc. and its subcontractor, Abt Associates Inc., an evaluation of the Indian Housing Block Grant (IHBG). This evaluation will provide HUD with information it needs to help determine the performance of the IHBG program for policy and program purposes. It will also provide information that HUD can submit to the Office of Management and Budget (OMB) as part of the Performance Assessment Rating Tool (PART) progress. Key issues to be addressed through the data collection are: Housing conditions for IHBG beneficiaries, rent burden, and whether overcrowding has been reduced.

Agency form numbers:

Members of affected public: Residents sampled in 30 Native American communities that are selected for the study.

Estimation of the total number of hours needed to prepare the information collection including number of respondents: The researchers will administer a one-time questionnaire to 650 residents. The interviews are expected to last ten minutes for a burden time of 108 hours. An additional 100 hours has been included in the event additional information or follow-up information is required. The total burden hour estimate is 208 hours.

Status of the proposed information collection: New collection, pending OMB approval.

Authority: Section 3506 of the Paperwork Reduction Act of 1995, 44 U.S.C. Chapter 35, as amended.

Dated: February 1, 2008.
Bessy Kong,
Deputy Assistant Secretary for Policy, Programs and Legislative Initiatives.

[FR Doc. E8-2387 Filed 2-7-08; 8:45 am]

BILLING CODE 4210-67-P